Title 3—

The President

Proclamation 8326 of December 5, 2008

National Pearl Harbor Remembrance Day, 2008

By the President of the United States of America

A Proclamation

On National Pearl Harbor Remembrance Day, we mourn the more than 2,400 Americans whose lives were lost in the surprise attack on our homeland that changed the course of history. Their service and sacrifice and the service and sacrifice of all our World War II veterans will be forever honored on this day by the citizens of a free and grateful Nation.

On December 7, 1941, the enemy nearly destroyed our Pacific Fleet, and the United States was forced into a long and terrible war. A generation of Americans stepped forward to fight for our country. Their message to America's enemies was clear: If you attack this country and harm our people, there is no corner of the Earth remote enough to protect you from the reach of our Nation's Armed Forces.

Following the war the United States worked to make our most bitter enemies into our closest friends through the transformative power of freedom. The joys of liberty are often secured by the sacrifices of those who serve a cause greater than self. To honor and recognize the sacrifice of our Armed Forces, I have designated nine sites as the World War II Valor in the Pacific National Monument. This monument will preserve our history and help share this heritage with future generations. On this anniversary, we honor the heroes who risked and lost their lives for our security and freedom. Their selfless dedication exemplifies the great character of America and continues to inspire our Nation.

The Congress, by Public Law 103-308, as amended, has designated December 7 of each year as “National Pearl Harbor Remembrance Day.”

NOW, THEREFORE, I, GEORGE W. BUSH, President of the United States of America, do hereby proclaim December 7, 2008, as National Pearl Harbor Remembrance Day. I encourage all Americans to observe this solemn occasion with appropriate ceremonies and activities. I urge all Federal agencies and interested organizations, groups, and individuals to fly the flag of the United States at half-staff this December 7 in honor of those who died as a result of their service at Pearl Harbor.

IN WITNESS WHEREOF, I have hereunto set my hand this fifth day of December, in the year of our Lord two thousand eight, and of the Independence of the United States of America the two hundred and thirty-third.

[FR Doc. E8-29315

Filed 12-8-08; 11:15 am]

Billing code 3195-W9-P